DEPARTMENT OF TRANSPORTATION

Coast Guard

33 CFR Part 117

[CGD01-01-055]

RIN 2115-AE47

Drawbridge Operation Regulations: Chelsea River, MA

AGENCY: Coast Guard, DOT.

ACTION: Temporary final rule.

SUMMARY: The Coast Guard is establishing a temporary final rule governing the operation of the P.J. McArdle Bridge, at mile 0.3, across the Chelsea River between East Boston and Chelsea, Massachusetts. This rule allows the bridge owner to keep the bridge in the partial open position of 49 degrees for eight, three and a half day, closures. This action is necessary to facilitate structural maintenance at the bridge.

DATES: This temporary final rule is effective from June 11, 2001 through September 21, 2001.

ADDRESSES: Comments and material received from the public, as well as documents indicated in this preamble as being available in the docket, are part of docket (CGD01-01-055) and are available for inspection or copying at the First Coast Guard District, Bridge Branch Office, 408 Atlantic Avenue, Boston, Massachusetts, 02110, 6:30 a.m. to 3 p.m., Monday through Friday, except Federal holidays.

FOR FURTHER INFORMATION CONTACT: Mr. John McDonald, Project Officer, First Coast Guard District, (617) 223-8364.

SUPPLEMENTARY INFORMATION:

Regulatory Information

The Coast Guard has determined that good cause exists under the Administrative Procedure Act (5 U.S.C. 553) to forego notice and comment for this rulemaking because notice and comment are unnecessary. The Coast Guard believes notice and comment are unnecessary because all the facilities that operate on the Chelsea River agreed to the requested closure dates at a meeting on March 1, 2001. The recreational vessels that use the Chelsea River will not be effected by the bridge not fully opening because there will still be 135 feet of navigable channel with unlimited airspace available when the bridge is opened to a 49 degree angle. Deep draft vessels will be prohibited from transiting the waterway during the specified dates closures as a result of a safety zone that is pending publication in the Federal Register.

Background

The P.J. McArdle Bridge, at mile 0.3, across the Chelsea River, has a vertical clearance of 21 feet at mean high water, and 30 feet at mean low water in the closed position. The existing drawbridge operating regulations are listed at 33 CFR 117.593.

The bridge owner, the City of Boston, requested a temporary deviation from the drawbridge operating regulations at a meeting on March 1, 2001, between the Coast Guard and the upstream facilities that operate on the Chelsea River. All the facilities agreed to the proposed closure schedule. The recreational vessels that transit the Chelsea River will not be effected by the bridge being in the partial open position of 49 degrees because they will still have 135 feet of navigable channel with unlimited airspace to pass through the bridge.

During the closure periods the bridge bascule spans will be at approximately a 49 degree angle of opening. This will reduce the navigable channel with unlimited airspace from 175 feet to 135 feet. This partial open position is necessary in order to perform structural repairs at the bridge.

This temporary final rule allows the bridge owner to keep the bridge in the partial open position for eight, three and a half day, closure periods, from sunset on Monday through sunrise on Friday. This closure schedule will allow 10 days between each closed period for full operation of the bridge.

The bridge will be in the partial open position from sunset on Monday through sunrise on Friday on the following dates:

June 11, 2001 through June 15, 2001;

June 25, 2001 through June 29, 2001;

July 9, 2001 through July 13, 2001;

July 23, 2001 through July 27, 2001;

August 6, 2001 through August 10, 2001;

August 20, 2001 through August 24, 2001;

September 3, 2001 through September 7, 2001; and

September 17, 2001 through September 21, 2001.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040; February 26, 1979). This conclusion is based on the fact that the requested closures were agreed upon in advance by the upstream facilities that use this waterway.

Small Entities

Under the Regulatory Flexibility Act (5 U.S.C. 601-612) we considered whether this rule would have a significant economic impact on a substantial number of small entities. “Small entities” comprise small businesses, not-for profit organizations that are independently owned and operated and are not dominant in their fields, and governmental jurisdictions with populations less than 50,000.

The Coast Guard certifies under 5 U.S.C. 605(b) that this rule will not have a significant economic impact on a substantial number of small entities. This conclusion is based on the fact that the requested closures were agreed upon in advance by the upstream facilities that use this waterway.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that under figure 2-1, paragraph (32)(e) of Commandant Instruction M16475.1C, this rule is categorically excluded from further environmental documentation because promulgation of changes to drawbridge regulations have been found to not have a significant effect on the environment. A written “Categorical Exclusion Determination” is not required for the temporary final rule.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From June 11, 2001 through September 21, 2001, § 117.593 is suspended and a new section 117.T594 is added to read as follows:

§ 117.T594 Chelsea River.

(a) All drawbridges across the Chelsea River shall open on signal; except that, the P.J. McArdle Bridge, mile 0.3, need not fully open for the passage of vessel traffic from, sunset on Monday through sunrise on Friday, June 11, 2001 through June 15, 2001; June 25, 2001 through June 29, 2001; July 9, 2001 through July 13, 2001; July 23, 2001 through July 27, 2001; August 6, 2001 through August 10, 2001; August 20, 2001 through August 24, 2001; September 3, 2001 through September 7, 2001; and September 17, 2001 through September 21, 2001.

(b) The opening signal for each drawbridge is two prolonged blasts followed by two short blasts and one prolonged blast. The acknowledging signal is three prolonged blasts when the draw can be opened immediately and two prolonged blasts when the draw cannot be opened or is open and must be closed.

Dated: April 30, 2001.
G.N. Naccara,
Rear Admiral, U.S. Coast Guard, Commander, First Coast Guard District.

[FR Doc. 01-11711 Filed 5-8-01; 8:45 am]

BILLING CODE 4910-15-P